FEDERAL COMMUNICATIONS COMMISSION

47 CFR Parts 1 and 27

[GN Docket No. 12-268, WT Docket Nos. 14-170, 05-211, RM-11395; DA 15-52]

Updating Competitive Bidding Rules; Further Extension of Comment and Reply Comment Periods

AGENCY: Federal Communications Commission.

ACTION: Proposed rule; extension of comment and reply comment deadlines.

SUMMARY: In this document, the Wireless Telecommunications Bureau (Bureau) further extends the deadline for filing comments and reply comments on its Competitive Bidding Notice of Proposed Rulemaking (Competitive Bidding NPRM), which sought comment on the revision of certain part 1 competitive bidding rules and provided notice of the Commission's intention to resolve longstanding petitions for reconsideration.

DATES: Comments are due on or before February 6, 2015, and reply comments are due on or before February 26, 2015.

ADDRESSES: You may submit comments to the Competitive Bidding NPRM, identified by GN Docket No. 12-268 and WT Docket Nos. 14-170, 05-211, by any of the following methods:

• Electronic Filers: Federal Communication Commission's Electronic Comments Filing System (ECFS): http://fjallfoss.fcc.gov/ecfs2/. Follow the instructions for submitting comments.

• Paper Filers: All hand-delivered or messenger-delivered paper filings for the Commission's Secretary must be delivered to FCC Headquarters at 445 12th Street SW., Room TW-A325, Washington, DC 20554. The filing hours are 8:00 a.m. to 7:00 p.m. Eastern Time (ET). All hand deliveries must be held together with rubber bands or fasteners. Any envelopes and boxes must be disposed of before entering the building. Commercial overnight mail (other than U.S. Postal Service Express Mail and Priority Mail) must be sent to 9300 East Hampton Drive, Capitol Heights, MD 20743. U.S. Postal Service first-class, Express, and Priority mail must be addressed to 445 12th Street SW., Washington, DC 20554.

• People with Disabilities: To request materials in accessible formats for people with disabilities (braille, large print, electronic files, or audio format), send an email to fcc504@fcc.gov or call the Consumer & Governmental Affairs Bureau at 202-418-0530 (voice), 202-418-0432 (TTY).

FOR FURTHER INFORMATION CONTACT: Wireless Telecommunications Bureau, Auctions and Spectrum Access Division: Leslie Barnes at (202) 418-0660.

SUPPLEMENTARY INFORMATION: This is a summary of the Bureau's Order in GN Docket No. 12-268, DA 15-52, adopted and released on January 13, 2015. The complete text of this document is available for public inspection and copying from 8:00 a.m. to 4:30 p.m. ET Monday through Thursday or from 8:00 a.m. to 11:30 a.m. ET on Fridays in the FCC Reference Information Center, 445 12th Street SW., Room CY-A257, Washington, DC 20554. The complete text may be purchased from the Commission's duplicating contractor, Best Copy and Printing, Inc. (BCPI), telephone 202-488-5300, facsimile 202-488-5563, or by contacting BCPI on its Web site: http://www.BCPIWEB.com. The complete text is also available on the Commission's Web site at http://wireless.fcc.gov, or by using the search function on the ECFS Web page at http://www.fcc.gov/cgb/ecfs/.

Summary

1. The Bureau released an Order on January 13, 2015, which further extends the comment and reply comment filing deadlines established in the Competitive Bidding NPRM, 79 FR 68172, November 14, 2014. The Federal Communications Commission (Commission) adopted the Competitive Bidding NPRM on October 1, 2014, proposing to reform certain of its general part 1 rules governing competitive bidding for spectrum licenses to reflect changes in the marketplace. The Commission expressed its intention to act on the issues raised in the Competitive Bidding NPRM in time to allow all parties to account for any changes while planning for the broadcast incentive auction. Extending the deadlines for comments and reply comments in response to the Competitive Bidding NPRM will increase the likelihood that interested parties will be able to take into account more complete information about the results of the bidding in Auction 97 and thereby promote a more comprehensive record in the proceeding, without jeopardizing the Bureau's ability to act on the Competitive Bidding NPRM sufficiently in advance of the upcoming broadcast incentive auction. Given the Commission's anticipated schedule for the broadcast incentive auction, further extensions for comments in this proceeding may not be feasible.

2. Pursuant to sections 4(i), 4(j), and 5(c) of the Communications Act of 1934, as amended, and pursuant to the authority delegated in 47 CFR 0.131 and 0.331, the Bureau extends the deadlines for filing comments and reply comments until February 6, 2015, and February 26, 2015, respectively.

Federal Communications Commission.
Gary D. Michaels,
Deputy Chief, Auctions and Spectrum Access Division, WTB.

[FR Doc. 2015-01193 Filed 1-22-15; 8:45 am]

BILLING CODE 6712-01-P